COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by nonprofit agencies employing persons who are blind or have other severe disabilities, and deletes products from the Procurement List previously furnished by such agencies.

DATES: Effective Date: 3/6/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 6/12/2015 (80 FR 33485-33489), 12/18/2015 (80 FR 79031-79032), and 1/8/2016 (81 FR 916-917), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 §§ U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 §§ U.S.C. 8501-8506) in connection with the products proposed for addition to the Procurement List.

End of Certification

Accordingly, the following products are added to the Procurement List:

Products:

NSN(s)—Product Name(s):

5340-00-NIB-0152—Door Closer, Architectural Commercial Grade

5340-00-NIB-0134—Lockset, Cylindrical, Passage/Closet Function, Philadelphia-style Lever

5340-00-NIB-0239—Lockset, Cylindrical, Exit Function, Philadelphia-style Lever

5340-00-NIB-0240—Lockset, Cylindrical, Exit Function, Boston-style Lever

5340-00-NIB-0254—Lockset, Cylindrical, Passage/Closet Function, Boston-style Lever

5340-00-NIB-0136—Lockset, Cylindrical, Privacy Function, Philadelphia-style Lever

5340-00-NIB-0255—Lockset, Cylindrical, Privacy Function, Boston-style Lever

5340-00-NIB-0154—Door Closer, Architectural Commercial Grade with Hold Open Function 5340-00-NIB-0132—Lockset, Cylindrical, Storeroom Function, Philadelphia-style Lever, Small Format Interchangeable Core

5340-00-NIB-0133—Lockset, Cylindrical, Office/Entrance Function, Philadelphia-style Lever, Small Format Interchangeable Core

5340-00-NIB-0250—Lockset, Cylindrical, Entrance Function, Boston-style Lever, Small Format Interchangeable Core

5340-00-NIB-0252—Lockset, Cylindrical, Storeroom Function, Boston-style Lever, Small Format Interchangeable Core

5340-00-NIB-0256—Lockset, Cylindrical, Entry Function, Philadelphia-style Lever, Small Format Interchangeable Core

5340-00-NIB-0257—Lockset, Cylindrical, Entry Function, Boston-style Lever, Small Format Interchangeable Core

5340-00-NIB-0251—Lockset, Cylindrical, Entrance Function, Philadelphia-style Lever, Large Format Interchangeable Core

5340-00-NIB-0253—Lockset, Cylindrical, Storeroom Function, Philadelphia-style Lever, Large Format Interchangeable Core

5340-00-NIB-0258—Lockset, Cylindrical, Entrance Function, Philadelphia-style Lever, Large Format Interchangeable Core

5340-00-NIB-0293—Door Closer, Architectural Commercial Grade with Door Saver Arm, Aluminum

5340-00-NIB-0294—Door Closer, Architectural Commercial Grade with Door Saver Arm, Cast Iron

5340-00-NIB-0247—Lockset, Cylindrical, Dormitory/Corridor Function, Philadelphia-style Lever, Small Format Interchangeable Core

5340-00-NIB-0248—Lockset, Cylindrical, Dormitory/Corridor Function, Boston-style Lever, Small Format Interchangeable Core

5340-00-NIB-0249—Lockset, Cylindrical, Dormitory/Corridor Function, Philadelphia-style Lever, Large Format Interchangeable Core

5340-00-NIB-0135—Lockset, Cylindrical, Vestibule/Classroom Function, Philadelphia-style Lever, Small Format Interchangeable Core

5340-00-NIB-0237—Lockset, Cylindrical, Storeroom Function, Boston-style Lever, Small Format Interchangeable Core

5340-00-NIB-0241—Lockset, Cylindrical, Institutional Function, Philadelphia-style Lever, Small Format Interchangeable Core

5340-00-NIB-0242—Lockset, Cylindrical, Institutional Function, Boston-style Lever, Small Format Interchangeable Core

5340-00-NIB-0244—Lockset, Cylindrical, Communication Function, Philadelphia-style Lever, Large Format Interchangeable Core

5340-00-NIB-0245—Lockset, Cylindrical, Communication Function, Boston-style Lever, Small Format Interchangeable Core

5340-00-NIB-0259—Lockset, Cylindrical, Vestibule/Classroom/Security function, Philadelphia-style Lever, Small Format Interchangeable Core

5340-00-NIB-0236—Lockset, Cylindrical, Store Room Function, Philadelphia-style Lever, Small Format Interchangeable Core

5340-00-NIB-0238—Lockset, Cylindrical, Storeroom Function, Philadelphia-style Lever, Large Format Interchangeable Core

5340-00-NIB-0243—Lockset, Cylindrical, Institutional Function, Philadelphia-style Lever, Large Format Interchangeable Core

5340-00-NIB-0246—Lockset, Cylindrical, Communication Function, Philadelphia style lever, Large Format Interchangeable Core

5340-00-NIB-0260—Lockset, Cylindrical, Vestibule/Classroom/Security function, Boston-style Lever, Large Format Interchangeable Core

5340-00-NIB-0153—Door Closer, Heavy Duty Institutional Grade

5340-00-NIB-0299—Door Closer, Heavy Duty Institutional Grade, Delayed Action

5340-00-NIB-0139—Lockset, Mortise, Passage Function, Escutcheon Trim, Philadelphia-style Lever

5340-00-NIB-0282—Lockset, Mortise, Passage Function, Escutcheon Trim, Ball Knob

5340-00-NIB-0283—Lockset, Mortise, Passage Function, Escutcheon Trim, Dallas-style Lever

5340-00-NIB-0295—Door Closer, Architectural Commercial Grade with Spring Cushion Stop

5340-00-NIB-0141—Lockset, Mortise, Privacy Function, Escutcheon Trim, Philadelphia-style Lever

5340-00-NIB-0291—Lockset, Mortise, Privacy Function, Escutcheon Trim, Ball Knob

5340-00-NIB-0292—Lockset, Mortise, Privacy Function, Escutcheon Trim, Dallas-style Lever

5340-00-NIB-0261—Lockset, Cylindrical, Classroom Security LED Function, Philadelphia-style Lever, Small Format Interchangeable Core

5340-00-NIB-0262—Lockset, Cylindrical, Classroom Security LED function, Boston-style Lever, Small Format Interchangeable Core

5340-00-NIB-0298—Door Closer, Heavy Duty Institutional Grade with Spring Cushion Stop

5340-00-NIB-0155—Door Closer, Heavy Duty Institutional Grade with Hold Open Function

5340-00-NIB-0296—Door Closer, Heavy Duty Institutional Grade with Door Saver Arm

5340-00-NIB-0297—Door Closer, Heavy Duty Institutional Grade with Door Saver, Hold Open Arm

5340-00-NIB-0137—Lockset, Mortise, Storeroom Function, Escutcheon Trim, Philadelphia-style Lever

5340-00-NIB-0138—Lockset, Mortise, Office Function, Escutcheon Trim, Philadelphia-style Lever

5340-00-NIB-0263—Lockset, Mortise, Classroom Holdback Function, Escutcheon Trim, Philadelphia-style Lever

5340-00-NIB-0264—Lockset, Mortise, Holdback Function, Escutcheon Trim, Ball Knob

5340-00-NIB-0265—Lockset, Mortise, Classroom Holdback Function, Escutcheon Trim, Dallas-style Lever

5340-00-NIB-0278—Lockset, Mortise, Storeroom Function, Escutcheon Trim, Ball Knob

5340-00-NIB-0279—Lockset, Mortise, Storeroom Function, Escutcheon Trim, Dallas-style Lever

5340-00-NIB-0280—Lockset, Mortise, Office Function, Ball Knob

5340-00-NIB-0281—Lockset, Mortise, Office Function, Escutcheon Trim, Dallas-style Lever

5340-00-NIB-0140—Mortise Lockset, Corridor Function, Escutcheon Trim, Philadelphia-style Lever

5340-00-NIB-0266—Lockset, Mortise, Front Door/Corridor Function, Escutcheon Trim, Philadelphia-style Lever

5340-00-NIB-0267—Lockset, Mortise, Front Door/Corridor Function, Escutcheon Trim, Ball Knob

5340-00-NIB-0268—Lockset, Mortise, Front Door/Corridor Function, Escutcheon trim, Dallas-style Lever

5340-00-NIB-0275—Lockset, Mortise, Entrance/Storeroom Function, Escutcheon trim, Philadelphia-style Lever

5340-00-NIB-0276—Lockset, Mortise, Entrance/Storeroom Function, Escutcheon Trim, Ball Knob

5340-00-NIB-0277—Lockset, Mortise, Entrance/Storeroom Function, Escutcheon Trim, Dallas-style Lever

5340-00-NIB-0284—Lockset, Mortise, Corridor Function, Escutcheon Trim, Ball Knob, Dallas-style Lever

5340-00-NIB-0285—Lockset, Mortise, Corridor Function, Escutcheon Trim

5340-00-NIB-0286—Lockset, Mortise, Entrance function, Escutcheon Trim, Philadelphia-style Lever

5340-00-NIB-0287—Lockset, Mortise, Entrance function, Escutcheon Trim, Ball Knob

5340-00-NIB-0288—Lockset, Mortise, Entrance Function, Escutcheon Trim, Dallas-style Lever

5340-00-NIB-0289—Lockset, Mortise, Dormitory/Exit Function, Escutcheon Trim, Ball Knob

5340-00-NIB-0290—Lockset, Mortise, Dormitory/Exit Function, Escutcheon Trim, Dallas-style Lever

5340-00-NIB-0301—Lockset, Mortise, Dormitory/Exit Function, Escutcheon Trim, Philadelphia-style Lever

5340-00-NIB-0300—Door Closer, Heavy Duty Institutional Grade with Door Arm Saver, Delayed Action

5340-00-NIB-0269—Lockset, Mortise, Store Door Function, Escutcheon Trim, Philadelphia-style Lever

5340-00-NIB-0270—Lockset, Mortise, Store Door Function, Escutcheon Trim, Ball Knob

5340-00-NIB-0271—Lockset, Mortise, Store Door Function, Escutcheon Trim, Dallas-style Lever

5340-00-NIB-0272—Lockset, Mortise, Dormitory Function, Escutcheon Trim, Philadelphia-style Lever

5340-00-NIB-0273—Lockset, Mortise, Dormitory Function, Escutcheon Trim, Ball Knob

5340-00-NIB-0274—Lockset, Mortise, Dormitory Function, Escutcheon Trim, Dallas-style Lever

5340-00-NIB-0142—Electronic Push Button Lockset, Philadelphia-style Lever, Small Format Interchangeable Core

5340-00-NIB-0143—Electronic Push Button Lockset, Philadelphia-style Lever, Large Format Interchangeable Core

5340-00-NIB-0144—Exit Device, Rim, Panic Listed, 3' Door

5340-00-NIB-0148—Exit Device, Rim, Panic Listed, 4' Door

5340-00-NIB-0145—Exit Device, Rim, Fire Listed, 3' Door

5340-00-NIB-0149—Exit Device, Rim, Fire Listed, 4' Door

5340-00-NIB-0146—Exit Device, Surface Vertical Rod, Panic Listed, 3' Door

5340-00-NIB-0147—Exit Device, Surface Vertical Rod, Fire Listed

5340-01-NIB-0150—Exit Device, Surface Vertical Rod, Panic Listed, 4' Door

5340-01-NIB-0151—Exit Device, Surface Vertical Rod, Fire Listed, 4' Door

Mandatory Purchase For: Total Government Requirement

Mandatory Source(s) of Supply: VisionCorps, Lancaster, PA

Contracting Activity: Defense Logistics Agency Troop Support, Philadelphia, PA

Distribution: B-List

Product Name(s)—NSN(s): Pencil, Mechanical, Push Action

7520-01-NIB-2331—Black, Fine Point (0.5 mm)

7520-01-NIB-2332—Black, Medium Point (0.7 mm)

Mandatory Source(s) of Supply: San Antonio Lighthouse for the Blind, San Antonio, TX

Mandatory Purchase For: Total Government Requirement

Contracting Activity: General Services Administration, New York, NY

Distribution: A-List

NSN(s)—Product Name(s): MR 381—Gift Box, Sweet Treat, Christmas

Mandatory Source(s) of Supply: Winston-Salem Industries for the Blind, Inc., Winston-Salem, NC

Mandatory Purchase For: Military commissaries and exchanges in accordance with the Code of Federal Regulations, Chapter 51, 51-6.4.

Contracting Activity: Defense Commissary Agency

Distribution: C-List

Deletions

On 12/31/2015 (80 FR 81810-81811), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

NSN(s)—Product Name(s): 7530-01-047-3738—Paper, Writing

Mandatory Source(s) of Supply: Louisiana Association for the Blind, Shreveport, LA

Contracting Activity: General Services Administration, New York, NY

NSN(s)—Product Name(s): 7520-00-240-5498—Clipboard, Arch

Mandatory Source(s) of Supply: Industries of the Blind, Inc., Greensboro, NC

Contracting Activity: General Services Administration, New York, NY

NSN(s)—Product Name(s): 7210-01-035-3342—Pillow, Bed

Mandatory Source(s) of Supply: Ed Lindsey Industries for the Blind, Inc., Nashville, TN

Contracting Activity: General Services Administration, Fort Worth, TX

NSN(s)—Product Name(s): 6545-00-NSH-2000—Module, Medical System, FRSS

Mandatory Source(s) of Supply: Louise W. Eggleston Center, Inc., Norfolk, VA

Contracting Activity: Dept of the Navy, Commander, Quantico, VA

NSN(s)—Product Name(s): 7920-00-NIB-0373—Shovel, Ergo Snow

Mandatory Source(s) of Supply: Industries for the Blind, Inc., West Allis, WI

Contracting Activity(ies): General Services Administration, Fort Worth, TX, Department of Veterans Affairs, NAC, Hines, IL

NSN(s)—Product Name(s): 7210-00-082-2081—Cover, Mattress

Mandatory Source(s) of Supply: Lions Services, Inc., Charlotte, NC

Contracting Activity: General Services Administration, Fort Worth, TX

NSN(s)—Product Name(s): 7210-00-935-6619—Cover, Mattress, Natural, 36″ × 82″

Mandatory Source(s) of Supply: Lions Services, Inc., Charlotte, NC

Contracting Activity: Defense Logistics Agency Troop Support, Philadelphia, PA

NSN(s)—Product Name(s): 7920-00-926-5492—Mophead, Wet

Mandatory Source(s) of Supply: Lighthouse for the Blind and Visually Impaired, San Francisco, CA, Mississippi Industries for the Blind, Jackson, MS

Contracting Activity: General Services Administration, Fort Worth, TX

NSN(s)—Product Name(s): 7920-00-240-2559—Sponge, Cellulose

Mandatory Source(s) of Supply: Mississippi Industries for the Blind, Jackson, MS

Contracting Activity: General Services Administration, Fort Worth, TX

NSN(s)—Product Name(s): 7920-00-NIB-0301—Handle, Wood

Mandatory Source(s) of Supply: LC Industries, Inc., Durham, NC

Contracting Activity: General Services Administration, Fort Worth, TX

Product Name(s)—NSN(s): Flatware, Plastic, Totally Degradable

7340-01-486-1858

7340-01-486-1859

7340-01-486-2767

7340-01-486-3657

Mandatory Source(s) of Supply: LC Industries, Inc., Durham, NC

Contracting Activity: General Services Administration, Fort Worth, TX

Product Name(s)—NSN(s): Pen, Essential LVX Translucent and refills

7510-01-454-1172

7510-01-454-1175

Mandatory Source(s) of Supply: Industries for the Blind, Inc., West Allis, WI

Contracting Activity: General Services Administration, New York, NY

NSN(s)—Product Name(s): 6840-00-NIB-0044—Prof Lysol Brand II Aerosol Disinfectant Spray

Mandatory Source(s) of Supply: LC Industries, Inc., Durham, NC

Contracting Activity: General Services Administration, New York, NY

NSN(s)—Product Name(s): 6840-01-383-0739—Disinfectant, Detergent—CPAL Item

7930-01-398-0947—Glass Cleaner—CPAL Item

7930-01-398-0948—Glass Cleaner—CPAL Item

7930-01-398-0949—Detergent, General Purpose—CPAL Item

7930-01-463-5064—Floor Care Products

Mandatory Source(s) of Supply: Lighthouse for the Blind of Houston, Houston, TX

Contracting Activity: General Services Administration, Fort Worth, TX

Product Name(s)—NSN(s): Bedspread

7210-00-728-0177

7210-00-728-0178

7210-00-728-0179

7210-00-728-0190—Cream, 63″ x 103″

7210-00-728-0191—Dark Green, 63″ x 103″

Mandatory Source(s) of Supply: Alabama Industries for the Blind, Talladega, AL

Contracting Activity: General Services Administration, Fort Worth, TX

Product Name(s)—NSN(s): Cover, Mattress

7210-00-205-3082—Pre-Shrunk, White, 85″ x 40″ x 6-1/8″

7210-00-205-3083—Bleached, White, 36″ x 81″ x 6-1/8″

7210-00-230-1041—Bleached, Pre-Shrunk, White, Twin, 77-1/2″ x 31″

7210-00-291-8419—White, 36″ x 77″ x 6-1/8″

7210-00-883-8492—White, 43-1/2″ x 82-1/2″

Mandatory Source(s) of Supply: Lions Services, Inc., Charlotte, NC, LC Industries, Inc., Durham, NC, The Arkansas Lighthouse for the Blind, Little Rock, AR

Contracting Activity: General Services Administration, Fort Worth, TX

Barry S. Lineback,
Director, Business Operations.

[FR Doc. 2016-02274 Filed 2-4-16; 8:45 am]

BILLING CODE 6353-01-P